OFFICE OF SPECIAL COUNSEL

Privacy Act of 1974; System of Records

AGENCY: Office of Special Counsel.

ACTION: Notice of revised description of Privacy Act system of records.

SUMMARY: The Office of Special Counsel (OSC) published a notice in the Federal Register on November 19, 1999, relating to the system of records maintained in connection with the agency's program responsibilities. The notice announced administrative changes to prior system notices, as well as a proposed revision of the system notice for the system of records, by amendment of the description of two existing routine uses, and the addition of a new routine use. This notice revises the description of the system of records as published in November to correct a technical error in the numbering of certain routine uses shown in that notice.

DATES: The revision made by this notice will be effective Febraury 9, 2000.

FOR FURTHER INFORMATION, CONTACT: Erin M. McDonnell, Associate Special Counsel for Planning and Advice, U.S. Office of Special Counsel, at (202) 653-8971, or the address shown below.

ADDRESSES: U.S. Office of Special Counsel, 1730 M Street, NW, Washington, DC 20036-4505.

SUPPLEMENTARY INFORMATION: Pursuant to 5 U.S.C. 552a(e)(4) and (11), the OSC published a notice appearing at 64 FR 63359 (November 19, 1999), relating to the system of records known as OSC/GOVT-1, OSC Complaint, Litigation and Political Activity Files. This system of records is maintained in connection with the agency's program responsibilities.

The notice announced administrative changes to prior system notices, to update information about individuals covered by the system, records in the system, authority for maintenance of the system, the system manager, retrievability of records, access controls, and records source categories; to update legal citations; and to make technical corrections. The notice also announced a proposed revision of the system notice for OSC/GOVT-1, by amendment of the description of two existing routine uses, and the addition of a new routine use.

The November 19th notice also advised that the revised and new routine uses would become effective 30 days after publication, unless comments received in writing by the OSC before then warranted further changes. Since the OSC received no comments on the proposed revised and new routine uses, they became effective on December 20, 1999.

Pursuant to 5 U.S.C. 552a(e)(4), this notice is to correct a technical error in the numbering of certain routine uses described in the November 19th notice. Specifically, the routine use identified as “h” inadvertently combined the text of two separate routine uses, which should have been denominated as routine uses “h” and “i.”

The description published at 64 FR 63359 (November 19, 1999) of the system of records known as OSC/GOVT-1 is hereby incorporated by reference, and is revised as incorporated to reflect the correct numbering and text of routine uses “h” and “i,” as follows:

“h. To disclose information to any source from which additional information is requested (to the extent necessary to identify the individual, inform the source of the purpose(s) of the request, and to identify the type of information requested), where necessary to obtain information relevant to an agency decision concerning the hiring or retention of an employee, the issuance of a security clearance, the conducting of a security or suitability investigation of an individual, the letting of a contract, or the issuance of a license, grant, or other benefit;

i. To disclose information to the Office of Management and Budget (OMB) at any stage in the legislative coordination and clearance process in connection with private relief legislation, as set forth in OMB Circular No. A-19;”

Dated: February 2, 2000.
Elaine Kaplan,
Special Counsel.

[FR Doc. 00-2876 Filed 2-8-00; 8:45 am]

BILLING CODE 7405-01-P